DEPARTMENT OF COMMERCE

National Oceanic and Atmospheric Administration

50 CFR Part 635

I.D. 052500B

Atlantic Highly Migratory Species (HMS) Fisheries; Large Coastal Shark, Small Coastal Shark, and Pelagic Shark Species

AGENCY: National Marine Fisheries Service (NMFS), National Oceanic and Atmospheric Administration (NOAA), Commerce.

ACTION: Quota adjustment and fishing season notification.

SUMMARY: NMFS announces that the landings of large coastal sharks (LCS) in the Atlantic Ocean, Gulf of Mexico, and Caribbean Sea totaled 742.7 metric tons (mt) dressed weight (dw) during the first semiannual 2000 season. Because this constitutes an overharvest of 100 mt dw, the second semiannual 2000 LCS quota is reduced accordingly. NMFS also notifies eligible participants of the opening and closing of fishing seasons for Atlantic LCS, small coastal sharks (SCS), and pelagic sharks.

DATES: The fishery opening for LCS is effective July 1, 2000; the LCS closure is effective from 11:30 p.m. local time August 7, 2000, through December 31, 2000. The fishery opening for SCS and pelagic sharks are July 1, 2000; no closure dates for these fisheries are included in this document.

FOR FURTHER INFORMATION CONTACT: Margo Schulze-Haugen, Karyl Brewster-Geisz or Steve Meyers, 301-713-2347; fax 301-713-1917.

SUPPLEMENTARY INFORMATION: The Atlantic shark fishery is managed under the Fishery Management Plan for Atlantic Tunas, Swordfish, and Sharks (HMS FMP), and its implementing regulations found at 50 CFR part 635 issued under authority of the Magnuson-Stevens Fishery Conservation and Management Act (16 U.S.C. 1801 et seq.).

On June 30, 1999, NMFS received a Court Order from Judge Steven D. Merryday relative to the May 1997 lawsuit challenging commercial harvest quotas for Atlantic sharks. Specifically, the order states: “. . . the Court hereby preliminarily, and until further order of the Court, expressly ENJOINS the defendant and his designees from enforcing the 1999 regulations, 64 FR 29090 (May, 28, 1999) with respect to Atlantic shark commercial catch quotas and fish-counting methods (including the counting of dead discards and state commercial landings after federal closures) that are different from the quotas and fish counting methods prescribed by the 1997 Atlantic shark regulations, 62 FR 16648 (April 7, 1997).”

As such, the annual 2000 LCS quota continues at the 1997 level of 1,285 mt dw for all species of LCS, (Table 1 of appendix A to part 635), with no minimum size on ridgeback LCS. The SCS and pelagic shark quotas also revert to their annual 1997 levels, of 1,760 and 580 mt dw, respectively. The 1997 prohibited species list includes only five prohibited species: white, basking, whale, sand tiger and bigeye sand tiger. The limited access provisions for commercial harvests still apply, including trip limits for directed and incidental shark permit holders.

A motion to clarify the terms of the court injunction is pending before the court. If granted, the 1999 prohibited species list would be in effect for the Atlantic commercial shark fishery. NMFS will announce the court's decision with specific details in the Federal Register once the court rules on the motion.

Under the terms of the Court injunction, the Assistant Administrator for Fisheries, NOAA (AA), is authorized to adjust the semiannual quota to reflect actual catches during the preceding semiannual period. Harvest data submitted to NMFS indicate that the landings of LCS from January through March 31, 2000, totaled 742.7 mt dw, which is 100.7 mt dw more than the available semiannual quota of 642.5 mt dw. Therefore, the adjusted quota for LCS for the second 2000 semiannual period is decreased from 642.5 mt dw to 542 mt dw. The adjusted quota of 542 mt dw is available for the period July 1 through December 31, 2000.

The second semiannual fishing season of the 2000 fishing year for the commercial fishery for LCS in the Western North Atlantic Ocean, including the Gulf of Mexico and the Caribbean Sea, will open July 1, 2000. Catch rate data from the second semiannual fishing seasons from 1997, 1998, and 1999 for LCS species indicate that the available LCS quota of 542.5 mt dw will be attained within 38 days. Accordingly, the AA has determined, based on these projected catch rates and the adjusted quota, that the quota for the 2000 second semiannual season for LCS in or from the Western North Atlantic Ocean, including the Gulf of Mexico and Caribbean Sea, will be attained as of August 7, 2000. The LCS fishery will close August 7, 2000, at 11:30 p.m. local time.

During a closure, retention of, fishing for, possessing or selling LCS are prohibited for persons fishing aboard vessels issued a limited access permit under § 635.4. The sale, purchase, trade, or barter of carcasses and/or fins of LCS harvested by a person aboard a vessel that has been issued a permit under § 635.4 are prohibited, except for those that were harvested, offloaded, and sold, traded, or bartered prior to the closure and were held in storage by a dealer or processor.

The second semiannual quota for SCS is 880 mt dw. The second semiannual quota for pelagic sharks is 290 mt dw. When quotas are projected to be reached for these fisheries, the AA will file notification of closure at the Office of the Federal Register at least 14 days before the effective date.

Those vessels that have not been issued a limited access permit under § 635.4 may not sell sharks and are subject to the recreational retention limits and size limits specified at §§ 635.20(e) and 635.22(c). The recreational fishery is not affected by any closure in the commercial fishery.

Classification

This action is taken under 50 CFR part 635 and is exempt from review under Executive Order 12866.

Authority: 16 U.S.C. 1801 et seq.

Dated: May 31, 2000.
Bruce C. Morehead,
Acting Director, Office of Sustainable Fisheries, National Marine Fisheries Service.

[FR Doc. 00-14036 Filed 5-31-00; 4:33 pm]

BILLING CODE 3510-22-F